DEPARTMENT OF COMMERCE

National Oceanic and Atmospheric Administration

[I.D. 022500E]

Alaska Region Permit Family of Forms

AGENCY: National Oceanic and Atmospheric Administration (NOAA).

ACTION: Proposed Collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 1, 2000.

ADDRESSES: Direct all written comments to Linda Engelmeier, Departmental Forms Clearance Officer, Department of Commerce, Room 5027, 14th and Constitution Avenue NW, Washington DC 20230 (or via Internet at LEngelme@doc.gov).

FOR FURTHER INFORMATION CONTACT: Requests for additional information or copies of the information collection instrument(s) and instructions should be directed to Patsy A. Bearden, National Marine Fisheries Service, Alaska Region, P.O. Box 21668, Juneau, Alaska 99802, 907-586-7228.

SUPPLEMENTARY INFORMATION:

I. Abstract

Fishermen wanting to fish in regulated fisheries in the Exclusive Economic Zone off Alaska must apply for a Federal Fisheries Permit, a Federal Processor Permit, a High Seas Power Troller Permit, or an Experimental Fishing Permit. The issuance of a permit is an essential ingredient in the management of fishery resources. Identification of the participants, harvest gear types, descriptions of vessels or shoreside facilities, and expected activity levels is needed to measure the consequences of management controls, and is an effective tool in the enforcement of other fishery regulations. Experience has shown that fines for violations of specific fishery regulations are not as effective as the threat of a permit revocation that would exclude the vessel from the fishery altogether. Experimental fishing provides information not otherwise available through research or commercial fishing operations.

II. Method of Collection

Each of the four permits is mandatory for certain fishery participants. A permit is obtained through completion of an application form.

III. Data

OMB Number: 0648-0206.

Form Number: None.

Type of Review: Regular submission.

Affected Public: Individuals or households; business or other for-profit organizations.

Estimated Number of Respondents: 2,814.

Estimated Time Per Response: 20 minutes for a Federal Fisheries Permit or Federal Processor Permit application, 30 minutes for applications for a Scallop Moratorium Permit Transfer or High Seas Power Troller Permit in the Salmon Fishery, and 30 hours for an Experimental Fishing Permit application.

Estimated Total Annual Burden Hours: 358.

Estimated Total Annual Cost to Public: $1,413.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and /or included in the request for OMB approval of this information collection; they also will become a matter of public record.

Dated: February 24, 2000.
Linda Engelmeier,
Departmental Forms Clearance Officer, Office of the Chief Information Officer.

[FR Doc. 00-5065 Filed 3-1-00; 8:45 am]

BILLING CODE 3510-22-F